Title 3—

The President

Memorandum of January 23, 2017

Hiring Freeze

Memorandum for the Heads of Executive Departments and Agencies

By the authority vested in me as President by the Constitution and the laws of the United States of America, I hereby order a freeze on the hiring of Federal civilian employees to be applied across the board in the executive branch. As part of this freeze, no vacant positions existing at noon on January 22, 2017, may be filled and no new positions may be created, except in limited circumstances. This order does not include or apply to military personnel. The head of any executive department or agency may exempt from the hiring freeze any positions that it deems necessary to meet national security or public safety responsibilities. In addition, the Director of the Office of Personnel Management (OPM) may grant exemptions from this freeze where those exemptions are otherwise necessary.

Within 90 days of the date of this memorandum, the Director of the Office of Management and Budget (OMB), in consultation with the Director of OPM, shall recommend a long-term plan to reduce the size of the Federal Government's workforce through attrition. This order shall expire upon implementation of the OMB plan.

Contracting outside the Government to circumvent the intent of this memorandum shall not be permitted.

This hiring freeze applies to all executive departments and agencies regardless of the sources of their operational and programmatic funding, excepting military personnel.

In carrying out this memorandum, I ask that you seek efficient use of existing personnel and funds to improve public services and the delivery of these services. Accordingly, this memorandum does not prohibit making reallocations to meet the highest priority needs and to ensure that essential services are not interrupted and national security is not affected.

This memorandum does not limit the nomination and appointment of officials to positions requiring Presidential appointment or Senate confirmation, the appointment of officials to non-career positions in the Senior Executive Service or to Schedule C positions in the Excepted Service, or the appointment of any other officials who serve at the pleasure of the appointing authority. Moreover, it does not limit the hiring of personnel where such a limit would conflict with applicable law. This memorandum does not revoke any appointment to Federal service made prior to January 22, 2017.

This memorandum does not abrogate any collective bargaining agreement in effect on the date of this memorandum.

THE WHITE HOUSE,

Washington, January 23, 2017.

[FR Doc. 2017-01842

Filed 1-24-17; 11:15 am]

Billing code 3295-F7-P